DEPARTMENT OF TRANSPORTATION

Maritime Administration

[Docket No. MARAD-2000-8544]

Application of Foreign Underwriters to Write Marine Hull Insurance

The Maritime Administration (MARAD) has received an application under 46 CFR Part 249 from Assicurazioni Generali SpA., an Italian based underwriter, to write marine hull insurance on subsidized and Title XI program vessels.

In accordance with 46 CFR 249.7(b), interested persons are hereby afforded an opportunity to bring to MARAD's attention any discriminatory laws or practices relating to the placement of marine hull insurance which may exist in the applicant's country of domicile.

Comments regarding this information collection should refer to the docket number that appears at the top of this document. Written comments may be submitted to the Docket Clerk, U.S. DOT Dockets, Room PL-401, 400 Seventh Street, SW., Washington, DC 20590. Comments may also be submitted by electronic means via the internet at http://dmses.dot.gov/submit. All comments received will be available for examination at the above address between 10 a.m. and 5 p.m., Monday through Friday, except Federal Holidays. An electronic version of this document is available on the World Wide Web at http://dms.dot.gov.

Dated: December 18, 2000.
Joel C. Richard,
Secretary, Maritime Administration.

[FR Doc. 00-32851 Filed 12-22-00; 8:45 am]

BILLING CODE 4910-81-P